DEPARTMENT OF COMMERCE

National Oceanic and Atmospheric Administration

[RTID 0648-XA897]

Marine Mammals; File Nos. 22306, 23675, 24334, and 24378

AGENCY: National Marine Fisheries Service (NMFS), National Oceanic and Atmospheric Administration (NOAA), Commerce.

ACTION: Notice; receipt of applications.

SUMMARY: Notice is hereby given that four applicants have applied in due form for a permit to conduct scientific research on 58 species of marine mammals. The species taken during research activities may include the following endangered or threatened cetaceans: Beluga whale (Delphinapterus leucas); blue whale (Balaenoptera musculus); bowhead whale (Balaena mysticetus); fin whale (B. physalus); gray whale (Eschrichtius robustus); humpback whale (Megaptera novaeangliae); killer whale (Orcinus orca); North Pacific right whale (Eubalaena japonica); sei whale (Balaenoptera borealis); sperm whale (Physeter microcephalus); and Southern right whale (E. australis); and the following endangered or threatened pinnipeds: Bearded seal (Erignathus barbatus); Guadalupe fur seal (Arctocephalus townsendi); ringed seal (Phoca hispida spp.); and Steller sea lion (Eumetopias jubatus). See the applications for a complete list of species by stock or listing unit.

DATES: Written, telefaxed, or email comments must be received on or before March 29, 2021.

ADDRESSES: The applications and related documents are available for review by selecting “Records Open for Public Comment” from the “Features” box on the Applications and Permits for Protected Species (APPS) home page, https://apps.nmfs.noaa.gov, and then selecting applicable File No. from the list of available applications. These documents are also available upon written request via email to NMFS.Pr1Comments@noaa.gov.

Written comments on these applications should be submitted via email to NMFS.Pr1Comments@noaa.gov. Please include File No. in the subject line of the email comment.

Those individuals requesting a public hearing should submit a written request via email to NMFS.Pr1Comments@noaa.gov. The request should set forth the specific reasons why a hearing on the application would be appropriate.

FOR FURTHER INFORMATION CONTACT: Shasta McClenahan, Ph.D. (File Nos. 22306 and 23675), Amy Hapeman (File No. 24334), or Courtney Smith, Ph.D. (File No. 24378), (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

File No. 22306: NMFS, Southwest Fisheries Science Center, 8901 La Jolla Shores Drive, La Jolla, California 92037, (Responsible Party: David Weller, Ph.D.), proposes to conduct research on 48 species of cetaceans and 6 species of pinnipeds in U.S. and international waters of the Pacific and Southern Oceans. The objectives of the research are to monitor and understand trends and population dynamics of marine mammals by collecting data on abundance, distribution, density, survival, immigration/emigration, reproduction, health and condition, movement patterns, dive behavior, acoustics, demography and stock structure. Cetaceans may be taken during vessel and aerial surveys, including unmanned aircraft systems (UAS), for counts, photo-identification, photography, videography, photogrammetry, behavioral observations, passive acoustic recordings, biological sampling (exhaled air, feces, sloughed skin, and skin and blubber biopsies), and tagging (suction-cup and dart/barb). Pinnipeds may be taken during manned and unmanned aerial and ground surveys for counts, photo-identification, photography, videography, photogrammetry, and collection of scat and spew. Marine mammal parts may also be imported, exported, salvaged, or received for analysis and curation. See the application for complete numbers of animals requested by species, life stage, and procedure. The permit is requested for five years.

File No. 23675: Brianna Witteveen, Ph.D., University of Alaska Fairbanks, 118 Trident Way, Kodiak, AK 99615, proposes to conduct research in the North Pacific Ocean in Alaska focusing on nine cetacean species. The objectives of the research are to advance knowledge and improve understanding of the foraging behavior, prey use, and habitat overlap among sympatric cetaceans throughout their habitat. Cetaceans may be taken during vessel surveys for photo-identification, behavioral observations, active acoustic sonar for prey mapping, biological sampling (feces, sloughed skin, predation remains, and skin and blubber biopsies), and suction-cup tagging. Six additional marine mammal species may be unintentionally harassed during research targeting cetaceans. See the application for complete numbers of animals requested by species, life stage, and procedure. The permit is requested for 5 years.

File No. 24334: Alaska Department of Fish and Game, P.O. Box 25526, Juneau, AK 99802, (Responsible Party: Lori Quakenbush, Ph.D.) proposes to conduct research on five whale species in the Bering, Chukchi, and Beaufort seas (U.S. and international waters) adjacent to Alaska. Research topics would include movements, habitat use, migration routes, body condition, predation, stock structure, population abundance, behavior relative to feeding, social interactions, human disturbance, and social structure. Researchers would conduct vessel surveys for tagging (dart/barb, deep implant, suction cup, or dorsal ridge attachments depending on species), biopsy sampling, photo-identification, and UAS surveys for all species. The applicant also requests to conduct manned aerial surveys and captures for tagging with biological sample collection of four beluga whale stocks. The applicant also requests export and import of skin and blubber for the target species. Non-target seals and beluga whales may be unintentionally harassed, and seals may be incidentally captured during research activities. Up to three unintentional beluga mortalities may occur during captures over the duration of the permit. See the application for complete numbers of animals requested by species, life stage, and procedure. The permit is requested for 5 years.

File No. 24378: The University of Alaska Southeast, 1332 Seward Ave, Sitka, AK 99835 (Responsible Party: Jan Straley) proposes to conduct research on 18 species of cetaceans in Alaska, focusing on three species of large whales. The objective of the research is to further the biological understanding of Alaskan cetaceans by evaluating species abundance, population and stock structure, life history parameters, foraging behavior and prey specialization, social behavior, seasonal movements and migrations, and depredation interactions with longline fishing vessels. Research methods include close approach by vessels and UAS to conduct photo-identification, behavioral observations, underwater photography/video, active acoustic sonar for prey mapping, tagging (suction-cup and dart/barb), biological sampling (prey samples, exhaled air, sloughed skin, feces), and collection of water samples for environmental DNA (eDNA). Some marine mammal parts may be exported for analysis. See the application for complete numbers of animals requested by species, life stage, and procedure. The permit is requested for 5 years.

In compliance with the National Environmental Policy Act of 1969 (42 U.S.C. 4321 et seq.), an initial determination has been made that the proposed activities are categorically excluded from the requirement to prepare an environmental assessment or environmental impact statement.

Concurrent with the publication of this notice in the Federal Register, NMFS is forwarding copies of the application to the Marine Mammal Commission and its Committee of Scientific Advisors.

Dated: February 23, 2021.
Amy Sloan,
Acting Chief, Permits and Conservation Division, Office of Protected Resources, National Marine Fisheries Service.

[FR Doc. 2021-04055 Filed 2-25-21; 8:45 am]

BILLING CODE 3510-22-P